DEPARTMENT OF HEALTH AND HUMAN SERVICES

Centers for Disease Control and Prevention

[Funding Opportunity Announcement: RFA EH 05013]

Environmental Health Specialist Network; Notice of Availability of Funds—Amendment

A notice announcing the availability of fiscal year (FY) 2005 funds for an Environmental Health Specialist Network was published in the Federal Register on Thursday, October 21, 2004, Volume 69, Number 203, pages 61846-61853. On pages 61846, Column 2, heading, and 61851, Column 1, Section “IV. Application and Submission Information,” under “IV.3. Submission Dates and Times,” the notice is amended as follows:

The Letter of Intent (LOI) deadline date has been extended from November 22, 2004 to December 10, 2004.

If your organization has already submitted an LOI for this funding opportunity, there is no need to submit another.

Dated: December 1, 2004.
William P. Nichols,
Acting Director, Procurement and Grants Office, Centers for Disease Control and Prevention.

[FR Doc. 04-26800 Filed 12-6-04; 8:45 am]

BILLING CODE 4163-18-P